DEPARTMENT OF COMMERCE

International Trade Administration

[A-570-964; A-201-838]

Seamless Refined Copper Pipe and Tube from the People's Republic of China and Mexico: Continuation of Antidumping Duty Orders

AGENCY: Enforcement and Compliance, International Trade Administration, Department of Commerce.

SUMMARY: As a result of the determinations by the Department of Commerce (the “Department”) and the International Trade Commission (the “ITC”) that revocation of the antidumping duty (“AD”) orders on seamless refined copper pipe and tube (“copper pipe and tube”) from the People's Republic of China (“PRC”) and Mexico would likely lead to a continuation or recurrence of dumping and material injury to an industry in the United States, the Department is publishing this notice of continuation of the AD orders.

DATES: Effective December 21, 2016.

FOR FURTHER INFORMATION CONTACT: Robert Galantucci, 202-482-2923, AD/CVD Operations, Enforcement and Compliance, International Trade Administration, U.S. Department of Commerce, 14th Street and Constitution Avenue NW., Washington, DC 20230.

SUPPLEMENTARY INFORMATION:

Background

On November 22, 2010, the Department published the AD orders on copper pipe and tube from the PRC and Mexico.¹ On October 1, 2015, the Department initiated ² and the ITC instituted ³ five-year (sunset) reviews of the Orders, pursuant to section 751(c) of the Tariff Act of 1930, as amended (the “Act”). As a result of its reviews, the Department determined that revocation of the Orders would likely lead to continuation or recurrence of dumping.⁴ The Department, therefore, notified the ITC of the magnitude of the dumping margins likely to prevail should the Orders be revoked.⁵ On December 8, 2016, the ITC published its determination that revocation of the Orders would likely lead to continuation or recurrence of material injury to an industry in the United States within a reasonably foreseeable time, pursuant to section 751(c) of the Act.⁶

¹ See Seamless Refined Copper Pipe and Tube from Mexico and the People's Republic of China: Antidumping Duty Orders and Amended Final Determination of Sales at Less Than Fair Value from Mexico, 75 FR 71070 (November 22, 2010) (“Orders”).

² See Initiation of Five-Year (“Sunset”) Review, 80 FR 59133 (October 1, 2015).

³ See Seamless Refined Copper Pipe and Tube from China and Mexico; Institution of Five-Year Reviews, 80 FR 59186 (October 1, 2015).

⁴ See Seamless Refined Copper Pipe and Tube from the People's Republic of China and Mexico: Preliminary Results of the Sunset Reviews of the Antidumping Duty Orders, 81 FR 4252 (January 26, 2016) and accompanying Preliminary Decision Memorandum; Seamless Refined Copper Pipe and Tube from the People's Republic of China and Mexico: Final Results of the Full Sunset Reviews of the Antidumping Duty Orders, 81 FR 38134 (June 13, 2016).

⁵ Id.

⁶ See Seamless Refined Copper Pipe and Tube From China and Mexico; Determination, 81 FR 88704 (December 8, 2016).

Scope of the Orders

For the purpose of the Orders, the products covered are all seamless circular refined copper pipes and tubes, including redraw hollows, greater than or equal to six inches (152.4 mm) in length and measuring less than 12.130 inches (308.102 mm) (actual) in outside diameter (“OD”), regardless of wall thickness, bore (e.g., smooth, enhanced with inner grooves or ridges), manufacturing process (e.g., hot finished, cold-drawn, annealed), outer surface (e.g., plain or enhanced with grooves, ridges, fins, or gills), end finish (e.g., plain end, swaged end, flared end, expanded end, crimped end, threaded), coating (e.g., plastic, paint), insulation, attachments (e.g., plain, capped, plugged, with compression or other fitting), or physical configuration (e.g., straight, coiled, bent, wound on spools).

The scope of the Orders covers, but is not limited to, seamless refined copper pipe and tube produced or comparable to the American Society for Testing and Materials (“ASTM”) ASTM-B42, ASTM-B68, ASTM-B75, ASTM-B88, ASTM-B88M, ASTM-B188, ASTM-B251, ASTM-B251M, ASTM-B280, ASTM-B302, ASTM-B306, ASTM-359, ASTM-B743, ASTM-B819, and ASTM-B903 specifications and meeting the physical parameters described therein. Also included within the scope of the Orders are all sets of covered products, including “line sets” of seamless refined copper tubes (with or without fittings or insulation) suitable for connecting an outdoor air conditioner or heat pump to an indoor evaporator unit. The phrase “all sets of covered products” denotes any combination of items put up for sale that is comprised of merchandise subject to the scope.

“Refined copper” is defined as: (1) Metal containing at least 99.85 percent by weight of copper; or (2) metal containing at least 97.5 percent by weight of copper, provided that the content by weight of any other element does not exceed the following limits:

Element | Limiting Content Percent by Weight
Ag—Silver | 0.25
As—Arsenic | 0.5
Cd—Cadmium | 1.3
Cr—Chromium | 1.4
Mg—Magnesium | 0.8
Pb—Lead | 1.5
S—Sulfur | 0.7
Sn—Tin | 0.8
Te—Tellurium | 0.8
Zn—Zinc | 1.0
Zr—Zirconium | 0.3
Other elements (each) | 0.3

Excluded from the scope of the Orders are all seamless circular hollows of refined copper less than 12 inches in length whose OD (actual) exceeds its length. The products subject to the Orders are currently classifiable under subheadings 7411.10.1030 and 7411.10.1090 of the Harmonized Tariff Schedule of the United States (“HTSUS”). Products subject to the Orders may also enter under HTSUS subheadings 7407.10.1500, 7419.99.5050, 8415.90.8065, and 8415.90.8085. Although the HTSUS subheadings are provided for convenience and customs purposes, the written description of the scope of the Orders is dispositive.

Continuation of the Orders

As a result of the determinations by the Department and the ITC that revocation of the Orders would likely lead to continuation or recurrence of dumping and material injury to an industry in the United States, pursuant to section 751(d)(2) of the Act and 19 CFR 351.218(a), the Department hereby orders the continuation of the AD orders on copper pipe and tube from the PRC and Mexico. United States Customs and Border Protection will continue to collect AD cash deposits at the rates in effect at the time of entry for all imports of subject merchandise.

The effective date of the continuation of the Orders will be the date of publication in the Federal Register of this notice of continuation. Pursuant to section 751(c)(2) of the Act, the Department intends to initiate the next five-year reviews of the Orders not later than 30 days prior to the fifth anniversary of the effective date of continuation.

These five-year sunset reviews and this notice are in accordance with section 751(c) of the Act and published pursuant to section 777(i)(1) of the Act and 19 CFR 351.218(f)(4).

Dated: December 14, 2016.
Paul Piquado,
Assistant Secretary, for Enforcement and Compliance.

[FR Doc. 2016-30653 Filed 12-20-16; 8:45 am]

BILLING CODE 3510-DS-P